DEPARTMENT OF TRANSPORTATION

Federal Highway Administration

Environmental Impact Statement: South Kohala, Hawaii

AGENCY: Federal Highway Administration (FHWA), DOT.

ACTION:

Notice of intent.

SUMMARY: The FHWA is issuing this notice to advise the public that an Environmental Impact Statement (EIS) will be prepared for a proposed highway project in South Kohala, Hawaii.

FOR FURTHER INFORMATION CONTACT: Mr. Abraham Wong, Hawaii Division Administrator, Federal Highway Administration, Office Address: 300 Ala Moana Blvd., Room 3-306, Honolulu, Hawaii 96813, Mailing Address: Box 50206, Honolulu, Hawaii 96850, Telephone: (808) 541-2700.

SUPPLEMENTARY INFORMATION: The FHWA, in cooperation with the State of Hawaii, Department of Transportation, Highways Division, will prepare an Environmental Impact Statement (EIS) to realign and/or widen an existing highway in South Kohala, on the island of Hawai'i. The proposed highway improvements begin near the intersection of Mud Lane and the Hawai'i Belt Road (State Route 19) and terminate along Mamalahoa Highway (State Route 190) near the Waimea-Kohala Airport. The total length of this project is approximately 6.3 miles. A 1.7-mile spur, which would connect with Lindsey Road, will also be analyzed as part of the realignment proposal.

The purpose of this project is to improve highway safety and reduce congestion, while preserving the character and ambience of the historic Waimea village. In addition to various alternative highway alignments, project alternatives will include: (1) Taking no action; and (2) using Travel Demand Management/Transportation Systems Management (TDM/TSM) and/or mass transit.

Letters describing the proposed action and soliciting comments will be sent to appropriate Federal, State and local agencies, and to private organizations and individuals, who have expressed an interest in this project. A series of public meetings will be held in the vicinity of Waimea. In addition, a public hearing will be held after publication of the draft EIS. Public notices will be issued, which will specify the date, time, and place of the hearing. The draft EIS will be available for public and agency review and comment prior to the public hearing. A formal scoping meeting is not planned at this time.

To ensure that the full range of issues related to this proposed action are addressed and all significant issues identified, comments and suggestions are invited from all interested parties. Comments or questions concerning this proposed action and the EIS should be directed to the FHWA at the above address.

(Catalog of Federal Domestic Assistant Program Number 20.205, Highway Planning and Construction. The regulations implementing Executive Order 12372 regarding intergovernmental consultation on Federal programs and activities apply to this program.)
Dated: Issued on: January 8, 2004.
Abraham Wong,
Division Administrator, Honolulu.

[FR Doc. 04-867 Filed 1-14-04; 8:45 am]

BILLING CODE 4910-22-M